CORPORATION FOR NATIONAL AND COMMUNITY SERVICE

Sunshine Act Meeting Notice

The National Civilian Community Corps Advisory Board gives notice of the following meeting:

DATE AND TIME: Thursday, July 19, 2012, 2:00 p.m.-3:30 p.m.

PLACE: Conference Room #8312, 8th floor, Corporation for National and Community Service Headquarters, 1201 New York Avenue NW., Washington, DC 20525.

CALL-IN INFORMATION: This meeting is available to the public through the following toll-free call-in number: 888-455-7057 conference call access code number 1876264. Any interested member of the public may call this number and listen to the meeting. Callers can expect to incur charges for calls they initiate over wireless lines, and CNCS will not refund any incurred charges. Callers will incur no charge for calls they initiate over land-line connections to the toll-free telephone number. Replays are generally available one hour after a call ends. The toll-free phone number for the replay is 203-369-3269. The end replay date: August 19, 2012, 11:59 p.m. (CT).

STATUS: Open.

MATTERS TO BE CONSIDERED:

I. Meeting Convenes

II. Approval of Minutes

III. Director's Report

IV. Area Reports:

• Recruitment, Selection and Placement

• Projects and Partnerships

• Policy and Operations

• Member Training and Development

V. Public Comment

ACCOMMODATIONS: Anyone who needs an interpreter or other accommodation should notify CNCS's contact person by 5:00 p.m. Thursday, July 12, 2012.

CONTACT PERSON FOR MORE INFORMATION: Erma Hodge, NCCC, Corporation for National and Community Service, 9th Floor, Room 9802B, 1201 New York Avenue NW., Washington, DC 20525. Phone (202) 606-6696. Fax (202) 606-3459. TTY: (800) 833-3722. Email: ehodge@cns.gov.

Dated: July 3, 2012.
Valerie E. Green,
General Counsel.

[FR Doc. 2012-16693 Filed 7-3-12; 4:15 pm]

BILLING CODE 6050-$$-P